DEPARTMENT OF COMMERCE

National Oceanic and Atmospheric Administration

50 CFR Part 635

RIN 0648-XE316

Atlantic Highly Migratory Species; Atlantic Bluefin Tuna Fisheries

AGENCY: National Marine Fisheries Service (NMFS), National Oceanic and Atmospheric Administration (NOAA), Commerce.

ACTION: Notification that Northeast Distant gear restricted area (NED) quota is filled.

SUMMARY: NMFS announces that the 25-mt quota available for Atlantic bluefin tuna bycatch (including landings and dead discards) by the Longline category in the Northeast Distant gear restricted area (NED) was filled on November 12, 2015. NMFS reminds vessels fishing in the NED that they now must account for any bluefin bycatch retained or discarded dead using IBQ allocation available to the vessel and that any quota debt remaining at the end of 2015 will carry over to 2016.

DATES: Effective November 18, 2015.

FOR FURTHER INFORMATION CONTACT: Tom Warren or Brad McHale, 978-281-9260.

SUPPLEMENTARY INFORMATION: Regulations implemented under the authority of the Atlantic Tunas Convention Act (ATCA; 16 U.S.C. 971 et seq.) and the Magnuson-Stevens Fishery Conservation and Management Act (Magnuson-Stevens Act; 16 U.S.C. 1801 et seq.) governing the harvest of bluefin tuna by persons and vessels subject to U.S. jurisdiction are found at 50 CFR part 635. Section 635.27 subdivides the U.S. bluefin tuna quota recommended by the International Commission for the Conservation of Atlantic Tunas (ICCAT) among the various domestic fishing categories per the allocations established in the 2006 Consolidated Highly Migratory Species Fishery Management Plan (2006 Consolidated HMS FMP) (71 FR 58058, October 2, 2006), as amended by Amendment 7 to the 2006 Consolidated HMS FMP (Amendment 7) (79 FR 71510, December 2, 2014).

The U.S. bluefin tuna annual quota from the International Commission for the Conservation of Atlantic Tunas (ICCAT) includes, as in previous years, a 25-mt set-aside for bluefin tuna bycatch related to longline fisheries operating in the vicinity of the ICCAT management area boundary. See ICCAT Recommendation 14-05; and 80 FR 52198, (August 28, 2015) (implementing the quota domestically). For management and monitoring purposes, NMFS implements this set-aside in the NED gear restricted area as quota available to Atlantic Longline category permitted vessels. Longline is not a permitted gear for directed fishing on bluefin tuna; any catch must be incidental to fishing for other species. Accounting for this bycatch includes all catch (landings and dead discards). The NED is the Atlantic Ocean area bounded by straight lines connecting the following coordinates in the order stated: 35°00′ N. lat., 60°00′ W. long.; 55°00′ N. lat., 60°00′ W. long.; 55°00′ N. lat., 20°00′ W. long.; 35°00′ N. lat., 20°00′ W. long.; 35°00′ N. lat., 60°00′ W. long.

The IBQ Program and the Northeast Distant Area (NED)

Under Amendment 7 (79 FR 71510, December 2, 2014), new rules were implemented for Longline category vessels fishing in the NED. See 50 CFR 635.15(b)(8). Any bluefin tuna bycatch by permitted vessels fishing with pelagic longline gear in the NED counts toward the ICCAT-allocated separate NED quota (25 mt), until that quota has been filled. During that period, the bluefin tuna accounting requirements of the IBQ Program do not apply to those vessels. Once the NED quota is filled, Longline category permitted vessels may fish or continue to fish in the NED, but the permitted vessels must then abide by the applicable requirements of the IBQ program, which requires individual vessel accounting for bluefin tuna bycatch using quota allocation available to the vessel (either through its own quota share or leasing allocation from another vessel). Bluefin tuna must be accounted for as described at § 635.15(b)(4) and (5).

Based on Atlantic bluefin tuna dealer data and IBQ system data, as of November 10, 2015, 33,484 lb (15.2 mt) of bluefin tuna has been landed, and 90 lb (<0.1 mt) of bluefin tuna has been discarded dead in the NED; an additional 36 bluefin tuna have been reported as retained through Vessel Monitoring System (VMS) bluefin tuna catch reports. These 36 retained bluefin tuna reported via VMS equate to approximately 17,460 lb (7.9 mt) of additional catch, which brings the total estimated bluefin tuna catch from the NED to 51,034 lb (23.2 mt). Based on this data, NMFS has determined that the 25 mt set-aside will be filled on November 12, 2015.

Because the NED the quota has been reached, vessels are notified that they must account for any bycatch of bluefin tuna (landings and/or dead discards) in the NED using IBQ allocation as specified in the regulations at § 635.15(b)(8). Vessel owners will have to account retroactively for their bluefin tuna bycatch with IBQ to the date that the separate quota was reached. NMFS currently anticipates that date will be November 12, 2015, but will notify relevant vessel owners of the precise date when we have complete NED catch data.

With respect to quota accounting for the fishery as whole, bluefin bycatch (landings and dead discards) from the NED beyond the 25 mt set-aside will count toward the Longline category annual baseline subquota. For 2015, NMFS delayed certain regulatory requirements requiring vessels with pelagic longline gear to have a minimum amount of IBQ quota before departing on fishing trips, thus allowing such vessels to fish with pelagic longline gear even if they have quota debt. However, we specified that quota debt will accrue throughout the 2015 fishing year, and vessels will be responsible for accounting for all of their bluefin bycatch at the end of the year. If, by the end of 2015, a permit holder does not have adequate IBQ allocation to settle their vessel's quota debt, the vessel's allocation will be reduced in the amount equal to the quota debt in the subsequent year or years until the quota debt is fully accounted for. Vessels with a negative balance will have to satisfy the quota debt before departing on any trips in 2016.

NMFS will continue to monitor bluefin tuna bycatch by vessels fishing with pelagic longline gear using VMS and dealer data, as well as monitor the accounting for such catch in the IBQ system, to ensure that vessels are accountable for their bluefin bycatch and that quotas are managed consistent with the 2006 Consolidated HMS FMP and our international quota obligations. For fishery updates, fishermen may call the Atlantic Tunas Information Line at (888) 872-8862 or (978) 281-9260, access the following internet address: www.hmspermits.gov.

Authority: 16 U.S.C. 971 et seq. and 1801 et seq.

Dated: November 12, 2015.
Emily H. Menashes,
Acting Director, Office of Sustainable Fisheries, National Marine Fisheries Service.

[FR Doc. 2015-29400 Filed 11-13-15; 4:15 pm]

BILLING CODE 3510-22-P